DEPARTMENT OF HEALTH AND HUMAN SERVICES

Administration for Community Living

[OMB Control Number—0985-0033]

Proposed Information Collection Activity; Public Comment Request; Revision of a Currently Approved Information Collection (ICR-Rev); State Developmental Disabilities Council—Annual Program Performance Report (PPR)

AGENCY: Administration on Intellectual and Developmental Disabilities (AIDD), Administration for Community Living (ACL), Department of Health and Human Services (HHS).

ACTION: Notice.

SUMMARY: The Administration for Community Living (ACL) is announcing an opportunity for the public to comment on ACL's intention to collect information necessary to determine grantee compliance with Part B of the Developmental Disabilities Assistance and Bill of Rights Act of 2000 (DD Act). Under the Paperwork Reduction Act of 1995 (PRA), Federal agencies are required to publish a notice in the Federal Register concerning each proposed collection of information, including each proposed extension of an existing collection of information, and to allow 60 days for public comment in response to the proposed action. This notice solicits comments on a proposed revision to an existing data collection related to the State Councils on Developmental Disabilities (State Councils) Annual Program Performance Report (PPR). On an annual basis, each Council must submit a Program Performance Report (PPR) to describe the extent to which annual progress is being achieved on the 5-year State plan goals. The PPR will be used by (1) the Council as a planning document to track progress made in meeting state plan goals; (2) the citizenry of the State as a mechanism for monitoring progress and activities on the plans of the Council; and (3) the Department as a stewardship tool for ensuring compliance with the Developmental Disabilities Assistance and Bill of Rights Act and for monitoring and providing technical assistance (e.g., during site visits), and support for management decision making.

DATES: Submit written or electronic comments on the collection of information by December 4, 2017.

ADDRESSES: Submit electronic comments on the collection of information to: Sara.Newell-Perez@acl.hhs.gov. Submit written comments on the collection of information by mail to Sara Newell-Perez, U.S. Department of Health and Human Services, Administration for Community Living, 330 C Street SW., Room 1108B, Washington, DC 20201.

FOR FURTHER INFORMATION CONTACT: Sara Newell-Perez at (202) 795-7413 or Sara.Newell-Perez@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension or update of an existing collection of information, before submitting the collection to OMB for approval.

The proposed data collection represents a revision of a currently approved information collection (ICR-Rev). In compliance with the requirements of Section 506 (c)(2)(A) of the Paperwork Reduction Act of 1995, the Administration on Community Living is soliciting public comment on the information collection described above. The Department specifically requests comments on: (a) Whether the proposed collection of information is necessary for the proper performance of the function of the agency, including whether the information will have practical utility; (b) the accuracy of the agency's estimate of the burden of the proposed collection of information, including the validity of the methodology and assumptions used; (c) the quality, utility, and clarity of the information to be collected; (d) ways to minimize the burden of the collection of information on respondents, including through the use of automated collection techniques, when appropriate, and other forms of information technology. Consideration will only be given to comments and suggestions submitted within 60 days of this publication. The proposed State Councils on Developmental Disabilities Annual Program Performance Report can be found on the ACL Web site at: https://www.acl.gov/about-acl/policy-and-regulations.

ACL estimates the burden of this collection of information as follows:

Burden Estimates

The total estimated hour burden per respondent for the proposed DD Council PPR will increase from the 138 hours estimated in 2015 to 172 burden hours per response. The number of hours is multiplied by 56 State Council programs, resulting in a total estimated hour aggregate burden of 9,632.

The increase in burden is primarily due to the incorporation of new performance measures into the FFY 2017-2021 state plan cycle. These measures will hone in on individual and family advocacy, as well as systems change advocacy. One example of these measures is a reporting of the number of promising and/or best practices improved as a result of systems change activities. The Program Performance Report (PPR) is an opportunity for Councils to report on the actual data and outcomes that resulted from carrying out the new State Plan activities. The proposed revisions to the PPR form were reviewed and pilot tested by a Performance Measures Workgroup consisting of nine (9) State Council representatives. This workgroup deemed the PPR revisions necessary to accurately capture and report on the progress of the State Councils. A separate workgroup consisting of nine (9) different State Council representatives further discussed data collection methodologies as it relates to the proposed PPR template. The new performance measures will offer a comprehensive categorization and approach to collecting data necessary to report to Congress and other interested entities.

The burden calculation takes into account that 40% percent of the change Councils estimated for data collection burden will be pre-populated for them through their web-based reporting system, ACL Reporting. The increase of 24.6% for burden is consistent with the development of new performance measures and were approved and anticipated by the State Councils.

Respondent/data collection activity | Number of respondents | Responses per respondent | Hours per response | Annual burden hours
State Councils on Developmental Disabilities Annual Program Performance Report (PPR) | 56 | 1 | 172 | 9,632
Total | 56 | 1 | 172 | 9,632

Dated: September 26, 2017.
Mary Lazare,
Principal Deputy Administrator.

[FR Doc. 2017-21258 Filed 10-3-17; 8:45 am]

BILLING CODE 4154-01-P